DEPARTMENT OF STATE

Bureau of Diplomatic Security, Office of Foreign Missions

[Public Notice: 7070]

30-Day Notice of Proposed Information Collection: Forms DS-4138, Request for Escort Screening Courtesies; DS-4139, Photograph and Signature Card; & DS-4140, Application for OFM Web Site Account; DS-1504; Request for Customs Clearance of Merchandise; Foreign Diplomatic Services Applications (FDSA), OMB Collection Number 1405-0105

ACTION: Notice of request for public comment and submission to OMB of proposed collection of information.

SUMMARY: The Department of State has submitted the following information collection request to the Office of Management and Budget (OMB) for approval in accordance with the Paperwork Reduction Act of 1995.

• Title of Information Collection: Request for Escort Screening Courtesies.

• OMB Control Number: 1405-0105.

• Type of Request: Revision of Currently Approved Collection.

• Originating Office: Diplomatic Security/Office of Foreign Missions (DS/OFM).

• Form Numbers: DS-4138.

• Respondents: Foreign government representatives assigned to the United States.

• Estimated Number of Respondents: 350 missions.

• Estimated Number of Responses: 3,000 responses.

• Average Hours per Response: 10 minutes.

• Total Estimated Burden: 500 hours divided among the missions.

• Frequency: On occasion.

• Obligation To Respond: Required to obtain or retain a benefit.

• Title of Information Collection: Photograph and Signature Card.

• OMB Control Number: 1405-0105.

• Type of Request: Revision of Currently Approved Collection.

• Originating Office: Diplomatic Security/Office of Foreign Missions (DS/OFM).

• Form Number: DS-4139.

• Respondents: Foreign government representatives assigned to the United States.

• Estimated Number of Respondents: 350 missions.

• Estimated Number of Responses: 18,000 responses.

• Average Hours per Response: 10 minutes.

• Total Estimated Burden: 3,000 hours divided among the missions.

• Frequency: On occasion.

• Obligation To Respond: Required to obtain or retain a benefit.

• Title of Information Collection: Application for OFM Web site Account.

• OMB Control Number: 1405-0105.

• Type of Request: Revision of Currently Approved Collection.

• Originating Office: Diplomatic Security/Office of Foreign Missions (DS/OFM).

• Form Numbers: DS-4140.

• Respondents: Foreign government representatives assigned to the United States.

• Estimated Number of Respondents: 350 missions.

• Estimated Number of Responses: 456 responses.

• Average Hours per Response: 10 minutes.

• Total Estimated Burden: 76 hours divided among the missions.

• Frequency: On occasion.

• Obligation To Respond: Required to obtain or retain a benefit.

• Title of Information Collection: Request for Customs Clearance of Merchandise.

• OMB Control Number: 1405-0105.

• Type of Request: Revision of a Currently Approved Collection.

• Originating Office: Diplomatic Security/Office of Foreign Missions (DS/OFM).

• Form Number: DS-1504.

• Respondents: Foreign government representatives assigned to the United States.

• Estimated Number of Respondents: 350 missions.

• Estimated Number of Responses: 7,938 responses.

• Average Hours per Response: 30 minutes.

• Total Estimated Burden: 3,969 hours.

• Frequency: On occasion.

• Obligation To Respond: Required to obtain or retain a benefit.

DATES: Submit comments to the Office of Management and Budget (OMB) for up to 30 days from date of publication in the Federal Register.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from: Jacqueline Robinson, Diplomatic Security, Office of Foreign Missions, 2201 C Street, NW., Room 2236, Washington, DC 20520, who may be reached on (202) 647-3416 or at OFMInfo@state.gov.

SUPPLEMENTARY INFORMATION:

We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

The Foreign Diplomatic Service Applications are all associated with OMB Collection number 1405-0105. Form DS-4138, Request for Escort Screening Courtesies, is the means by which the U.S. Department of State (DOS) will adjudicate requests for assignment of a DOS representative to ensure that eligible senior foreign government officials are exempted from the TSA security screening process at major U.S. airports. The request will be used to review for entitlement to the courtesy, the specific airport to be advised, and the assignment of a DOS escort. Form DS-4139, Photograph and Signature Card, is the means by which the Department obtains a photograph and/or signature for use in the production of an identification card, a sales tax exemption card, or DOS driver license when applications are submitted electronically (thru e-Gov) for foreign mission personnel and their dependents. Form DS-4140, Application for OFM Web site Account, is the means by which the Department provides accredited foreign mission administrative staff authorized access to the Office of Foreign Missions' electronic data submission (e-Gov) system. OFM's e-Gov system is accessed to submit automated service requests to the Office of Foreign Missions and the Office of Protocol of the U.S. State Department to obtain “benefits” designated under the Foreign Missions Act, 22 U.S.C. 4301 et seq., and must be obtained through the U.S. Department of State. Also, form DS-1504, Request for Customs Clearance of Merchandise, is the means by which the Department provides customs duty-free entry privileges for foreign missions, its mission personnel and their dependents. The applications provide the Department with the necessary information to administer its programs effectively and efficiently.

Methodology

These applications/information collections are submitted by all foreign missions to the Office of Foreign Missions via the following methods: Electronically, mail, and/or personal delivery.

Dated: June 14, 2010.
Steve Maloney,
Managing Director, Bureau of Diplomatic Security, Office of Foreign Missions, Department of State.

[FR Doc. 2010-15760 Filed 6-28-10; 8:45 am]

BILLING CODE 4710-43-P